OFFICE OF PERSONNEL MANAGEMENT

Submission for Review: Request for External Review (3206-NEW); Model Notice of Final Internal Adverse Benefit Determination and Case Intake Form

AGENCY: U.S. Office of Personnel Management.

ACTION: 30-Day Notice and request for comments.

SUMMARY: National Healthcare Operations, U.S. Office of Personnel Management (OPM) offers the general public and other Federal agencies the opportunity to comment on a new information collection request (ICR), Office of Management and Budget (OMB) Control No. 3206-NEW, Request for External Review. The information collection comprises two forms: (1) Model Notice of Final Internal Adverse Benefit Determination, and (2) Case Intake Form. As required by the Paperwork Reduction Act of 1995, (Pub. L. 104-13, 44 U.S.C. chapter 35) as amended by the Clinger-Cohen Act (Pub. L. 104-106), OPM is soliciting comments for this collection. The information collection was previously published in the Federal Register on August 2, 2013 at Volume 78 FR 47016 allowing for a 60-day public comment period. Two comments were received for the information collection. The purpose of this notice is to allow an additional 30 days for public comments. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until December 26, 2013. This process is conducted in accordance with 5 CFR 1320.1.

ADDRESSES: Interested persons are invited to submit written comments on the proposed information collection to the Office of Information and Regulatory Affairs, Office of Management Budget, 725 17th Street NW., Washington, DC 20503, Attention: Desk Officer for the Office of Personnel Management or sent by email to oira_submission@omb.eop.gov or faxed to (202) 395-6974.

FOR FURTHER INFORMATION CONTACT: A copy of this ICR, with applicable supporting documentation, may be obtained by contacting the Office of Information and Regulatory Affairs, Office of Management Budget, 725 17th Street NW., Washington, DC 20503, Attention: Desk Officer for the Office of Personnel Management or sent via electronic mail to oira_submission@omb.eop.gov or faxed to (202) 395-6974.

SUPPLEMENTARY INFORMATION: Section 1334 of the Patient Protection and Affordable Care Act, Public Law 111-148, as amended by the Health Care Education Reconciliation Act, Public Law 111-152 (together, “Affordable Care Act”), directed OPM to enter into contracts with health insurance issuers to offer coverage on Exchanges (also called “Health Insurance Marketplaces”) throughout the 50 States and the District of Columbia. OPM issued final regulations for the establishment of the Multi-State Plan (MSP) Program on March 11, 2013, 78 FR 15560, which outlined an external review process that would be available to MSP enrollees.

The regulations state that “OPM will conduct external review of adverse benefit determinations using a process similar to OPM review of disputed claims under [the Federal Employees Health Benefits Program] . . . .” 45 CFR 800.503(a). A necessary part of conducting external review of adverse benefit determinations is accepting requests for external review from MSP enrollees.

In addition to requests for external review, OPM anticipates that MSP enrollees may contact it about inquiries or complaints regarding MSP options, which may have to be referred to other appropriate entities such as State insurance departments, State consumer assistance programs, and the U.S. Department of Health and Human Services.

This notice announces that OPM is submitting to OMB a request for review and clearance of a new information collection, Request for External Review, comprising two forms: (1) Model Notice of Final Internal Adverse Benefit Determination, and (2) Case Intake Form. MSP issuers would use the Model Notice Of Final Internal Adverse Benefit Determination to provide written notice to enrollees about the result of any final internal adverse benefit determination, their external review rights, and how they may file a request for external review using one portion of the form. MSP enrollees, and their authorized representatives, would use the Case Intake Form to start or review a case regarding a request for external review about a denied claim, a complaint about an MSP issuer, or an inquiry for OPM.

Analysis

Agency: National Healthcare Operations, Office of Personnel Management.

Title: Request for External Review.

OMB Number: 3206-NEW.

Affected Public: Individuals or households; business or other for-profit; not-for-profit institutions.

| Model notice of final internal adverse benefit determination | Case intake form
Number of Respondents | 448,000 | 800
Estimated Time (Hours) Per Respondent | 0.08 | 1
Total Burden Hours | 37,400 | 800

U.S. Office of Personnel Management.
Katherine Archuleta,
Director.

[FR Doc. 2013-28383 Filed 11-25-13; 8:45 am]

BILLING CODE 6325-38-P